DEPARTMENT OF VETERANS AFFAIRS

[OMB Control No. 2900-0524]

Agency Information Collection Activities Under OMB Review

AGENCY: Office of Security and Law Enforcement, Department of Veterans Affairs.

ACTION: Notice.

SUMMARY: In compliance with the Paperwork Reduction Act (PRA) of 1995 (44 U.S.C., 3501 et seq.), this notice announces that the Office of Security and Law Enforcement, Department of Veterans Affairs, has submitted the collection of information abstracted below to the Office of Management and Budget (OMB) for review and comment. The PRA submission describes the nature of the information collection and its expected cost and burden; it includes the actual data collection instrument.

DATES: Comments must be submitted on or before October 10, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “OMB Control No. 2900-0524.”

SUPPLEMENTARY INFORMATION:

Title and Form Number: VA Police Officer Pre-Employment Screening Checklist, VA Form 0120.

OMB Control Number: 2900-0524.

Type of Review: Reinstatement, without change, of a previously approved collection for which approval has expired.

Abstract: Each VA medical center has authority to hire its own VA police officers. Prior to employment of a qualified applicant, each facility is required to conduct an FBI arrest record inquiry and to contact listed former employers for a determination of any adverse performance or suitability information. VA Form 0120 is completed by each VA facility human resources office and serves as the record of pre-employment screening to determine the qualifications and suitability of the applicant. The Office of Security and Law Enforcement reviews each completed form and authorizes the VA police badge set issuance only in those instances where screening documentation is satisfactorily accomplished. The form serves as a standard means of ensuring the completion of the pre-employment process.

An agency may not conduct or sponsor, and a person is not required to respond to a collection of information unless it displays a currently valid OMB control number. The Federal Register Notice with a 60-day comment period soliciting comments on this collection of information was published on March 27, 2000 at page 16244.

Affected Public: State, Local or Tribal Government, and Business or other for-profit.

Estimated Annual Burden: 300 hours.

Estimated Average Burden Per Respondent: 10 minutes.

Frequency of Response: On occasion.

Estimated Number of Respondents: 1,800.

Send comments and recommendations concerning any aspect of the information collection to VA's OMB Desk Officer, Allison Eydt, OMB Human Resources and Housing Branch, New Executive Office Building, Room 10235, Washington, DC 20503 (202) 395-4650. Please refer to “OMB Control No. 2900-0524” in any correspondence.

Dated: August 15, 2000.
By direction of the Acting Secretary.
Donald L. Neilson,
Director, Information Management Service.

[FR Doc. 00-22899 Filed 9-6-00; 8:45 am]

BILLING CODE 8320-01-P